DEPARTMENT OF AGRICULTURE

Animal and Plant Health Inspection Service

[Docket No. APHIS-2008-0105]

Notice of Request for Approval of an Information Collection; National Animal Health Monitoring System; Goat 2009 Study

AGENCY: Animal and Plant Health Inspection Service, USDA.

ACTION: New information collection; comment request.

SUMMARY: In accordance with the Paperwork Reduction Act of 1995, this notice announces the Animal and Plant Health Inspection Service's intention to initiate an information collection to support the National Animal Health Monitoring System Goat 2009 Study.

DATES: We will consider all comments that we receive on or before November 28, 2008.

ADDRESSES: You may submit comments by either of the following methods:

• Federal eRulemaking Portal: Go to http://www.regulations.gov/fdmspublic/component/main?main=DocketDetail&d=APHIS-2008-0105 to submit or view comments and to view supporting and related materials available electronically.

• Postal Mail/Commercial Delivery: Please send two copies of your comment to Docket No. APHIS-2008-0105, Regulatory Analysis and Development, PPD, APHIS, Station 3A-03.8, 4700 River Road Unit 118, Riverdale, MD 20737-1238. Please state that your comment refers to Docket No. APHIS-2008-0105.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Goat 2009 Study, contact Ms. Sandra Warnken, Management and Program Analyst, Centers for Epidemiology and Animal Health, VS, APHIS, 2150 Centre Avenue, Building B MS 2E3, Fort Collins, CO 80526; (970) 494-7193. For copies of more detailed information on the information collection, contact Mrs. Celeste Sickles, APHIS* Information Collection Coordinator, at (301) 851-2908.

SUPPLEMENTARY INFORMATION: Title: National Animal Health Monitoring System; Goat 2009 Study.

OMB Number: 0579-xxxx.

Type of Request: Approval of a new information collection.

Abstract: Under the Animal Health Protection Act (7 U.S.C. 8301 et seq.), the Animal and Plant Health Inspection Service (APHIS) of the United States Department of Agriculture is authorized, among other things, to prevent the introduction and interstate spread of livestock diseases by prohibiting or restricting the importation and interstate movement of animals and other articles and by eradicating such diseases from the United States when feasible. In connection with this mission, the Animal and Plant Health Inspection Service (APHIS) operates the National Animal Health Monitoring System (NAHMS), which collects nationally representative, statistically valid, and scientifically sound data on the prevalence and economic importance of livestock and poultry diseases and associated risk factors.

NAHMS' studies have evolved into a collaborative industry and government initiative to help determine the most effective means of preventing and controlling diseases of livestock. APHIS is the only agency responsible for collecting data on livestock health. Participation in any NAHMS study is voluntary, and all data are confidential.

APHIS plans to conduct the Goat 2009 Study as part of an ongoing series of NAHMS studies on the U.S. livestock population. The 21 States targeted for the study have approximately 85 percent of the goats in the United States and 78 percent of U.S. operations with goats. The purpose of this study is to collect information, through questionnaires and biologic sampling, to:

• Determine producer awareness of Veterinary Services program diseases and describe management and biosecurity practices important for the control of infectious diseases (including brucellosis, scrapie, caprine arthritis encephalitis (CAE), Johne's, and caseous lymphadenitis). Provide a baseline description of animal health, nutrition, and management practices in the U.S. goat industry.

• Estimate the prevalence of:

• Mycobacterium parataberculosis (Johne's) infection;

• Internal parasitism and anthelminthic resistance; and

• Common causes of mastitis.

• Characterize contagious ecthyma (soremouth) in U.S. goats. Determine producer awareness of zoonotic potential and practices to prevent soremouth transmission and assess producer interest in an improved vaccine for soremouth.

• Examine factors (i.e., genetic and/or management) that correlate with CAE virus levels.

• Provide genetic and serological banks for future research.

The study will consist of a series of on-farm questionnaires, with biologic sampling, that will be administered by APHIS-designated data collectors. The information collected through the Goat 2009 Study will be analyzed and organized into descriptive reports. Information sheets will be derived from these reports, and the data will be disseminated to and used by a variety of constituents, including producers, veterinarians, stakeholders, academia, and others. The data will help APHIS address emerging issues and examine the economic impact of selected health management practices.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1.048689 hours per response.

Respondents: Goat producers in 21 States.

Estimated annual number of respondents: 5,500.

Estimated annual number of responses per respondent: 1.5536.

Estimated annual number of responses: 8,544.

Estimated total annual burden on respondents: 8,960 hours. (Due to averaging, the total annual burden hours may not equal the product of the annual number of responses multiplied by the reporting burden per response.)

All responses to this notice will be summarized and included in the request for OMB approval. All comments will also become a matter of public record.

Done in Washington, DC, this 23rd day of September 2008.
Kevin Shea,
Acting Administrator, Animal and Plant Health Inspection Service.

[FR Doc. E8-22827 Filed 9-26-08; 8:45 am]

BILLING CODE 3410-34-P